DEPARTMENT OF ENERGY

Federal Energy Regulatory Commission

Combined Notice of Filings #2

Take notice that the Commission received the following electric corporate filings:

Docket Numbers: EC13-81-000.

Applicants: Bangor Hydro Electric Company, Maine Public Service Company.

Description: Errata to March 19, 2013 Section 203 Application of Bangor Hydro Electric Company, et. al. and Request for Shortened Answer Period.

Filed Date: 6/26/13.

Accession Number: 20130626-5052.

Comments Due: 5 p.m. ET 7/8/13.

Take notice that the Commission received the following electric rate filings:

Docket Numbers: ER10-1521-003; ER10-1520-003; ER10-3028-002.

Applicants: Occidental Power Services, Inc., Occidental Power Marketing, L.P., Elk Hills Power, LLC.

Description: Triennial Market Power Analysis for the Southwest Region of Occidental Power Services, Inc., et al.

Filed Date: 6/26/13.

Accession Number: 20130626-5097.

Comments Due: 5 p.m. ET 8/26/13.

Docket Numbers: ER13-1784-000.

Applicants: Duke Energy Carolinas, LLC.

Description: Dallas PPA—RS 328 Revision (2013) to be effective 7/2/2012.

Filed Date: 6/26/13.

Accession Number: 20130626-5026.

Comments Due: 5 p.m. ET 7/17/13.

Docket Numbers: ER13-1785-000.

Applicants: PacifiCorp.

Description: BPA AC Intertie Agreement 7th Revised to be effective 8/26/2013.

Filed Date: 6/26/13.

Accession Number: 20130626-5046.

Comments Due: 5 p.m. ET 7/17/13.

Docket Numbers: ER13-1786-000.

Applicants: Dry Lake Wind Power, LLC.

Description: Triennial Review to be effective 6/29/2013.

Filed Date: 6/26/13.

Accession Number: 20130626-5050.

Comments Due: 5 p.m. ET 7/17/13.

Docket Numbers: ER13-1787-000.

Applicants: Dry Lake Wind Power II LLC.

Description: Triennial Review to be effective 6/29/2013.

Filed Date: 6/26/13.

Accession Number: 20130626-5051.

Comments Due: 5 p.m. ET 7/17/13.

Docket Numbers: ER13-1788-000.

Applicants: GenOn Canal, LLC.

Description: Notice of Succession to be effective 6/27/2013.

Filed Date: 6/26/13.

Accession Number: 20130626-5113.

Comments Due: 5 p.m. ET 7/17/13.

Docket Numbers: ER13-1789-000.

Applicants: GenOn Chalk Point, LLC.

Description: Notice of Succession to be effective 6/27/2013.

Filed Date: 6/26/13.

Accession Number: 20130626-5114.

Comments Due: 5 p.m. ET 7/17/13.

Docket Numbers: ER13-1790-000.

Applicants: GenOn Delta, LLC.

Description: Notice of Succession to be effective 6/27/2013.

Filed Date: 6/26/13.

Accession Number: 20130626-5117.

Comments Due: 5 p.m. ET 7/17/13.

Docket Numbers: ER13-1791-000.

Applicants: GenOn Florida, LP.

Description: Notice of Succession to be effective 6/27/2013.

Filed Date: 6/26/13.

Accession Number: 20130626-5119.

Comments Due: 5 p.m. ET 7/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2013.
Nathaniel J. Davis, Sr.,
Deputy Secretary.

[FR Doc. 2013-16068 Filed 7-3-13; 8:45 am]

BILLING CODE 6717-01-P